DEPARTMENT OF TRANSPORTATION

Federal Aviation Administration

14 CFR Part 39

[Docket No. FAA-2015-3741; Directorate Identifier 2014-SW-040-AD]

RIN 2120-AA64

Airworthiness Directives; Airbus Helicopters (Type Certificate Previously Held by Eurocopter France)

AGENCY: Federal Aviation Administration (FAA), DOT.

ACTION: Notice of proposed rulemaking (NPRM).

SUMMARY: We propose to supersede airworthiness directive (AD) 2013-08-17 for Airbus Helicopters Model SA-365N, SA-365-N1, AS-365N2, AS 365 N3, and SA-366G1 helicopters. AD 2013-08-17 currently requires an initial and recurring inspections of the 9-degree fuselage frame for a crack and a repair of the frame if a crack exists. Since we issued AD 2013-08-17, additional information has prompted us to propose modifying the compliance times and expanding the inspection area of the 9-inch frame. These proposed actions are intended to detect a crack in the 9-degree frame to prevent loss of structural integrity and subsequent loss of control of the helicopter.

DATES: We must receive comments on this proposed AD by February 19, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-3741; or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed rule, contact Airbus Helicopters, Inc., 2701 N. Forum Drive, Grand Prairie, TX 75052; telephone (972) 641-0000 or (800) 232-0323; fax (972) 641-3775; or at http://www.airbushelicopters.com/techpub. You may review service information at the FAA, Office of the Regional Counsel, Southwest Region, 10101 Hillwood Pkwy., Room 6N-321, Fort Worth, Texas 76177.

FOR FURTHER INFORMATION CONTACT: Robert Grant, Aviation Safety Engineer, Safety Management Group, FAA, 10101 Hillwood Pkwy., Fort Worth, Texas 76177; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On April 12, 2013, we issued AD 2013-08-17, Amendment 39-17434 (78 FR 25380, May 1, 2013), for Eurocopter France (now Airbus Helicopters) Model SA-365N, SA-365-N1, AS-365N2, AS 365 N3, and SA-366G1 helicopters. AD 2013-08-17 requires an initial and recurring inspection of the 9-degree fuselage frame for a crack and a repair of the frame if a crack exists. AD 2013-08-17 was prompted by the discovery of a crack in the 9-degree frame of a Model AS-365N2 helicopter. This type of crack could develop on the other specified model helicopters because they contain the same 9-degree frame. Those actions are intended to detect a crack in the 9-degree frame to prevent loss of structural integrity and subsequent loss of control of the helicopter.

AD 2013-08-17 was prompted by Emergency AD No. 2010-0064-E, dated April 6, 2010, issued by EASA, which is the Technical Agent for the Member States of the European Union, to correct an unsafe condition for Model SA-365N, SA-365-N1, AS-365N2, AS 365 N3, and SA-366G1 helicopters. EASA advises that a crack was found in the 9-degree frame of an AS-365N2 helicopter during an inspection. The helicopter had logged 10,786 flight hours. The crack was located 230 millimeters above the cabin floor and had grown over a large section of the 9-degree frame on the right-hand (RH) side. EASA states that the time required for initiation of a crack in the area varies according to the weight and balance data of the different aircraft versions.

Actions Since AD 2013-08-17 Was Issued

Since we issued AD 2013-08-17, Amendment 39-17434 (78 FR 25380, May 1, 2013), EASA issued AD No. 2014-0159, dated July 7, 2014, which supersedes EASA Emergency AD No. 2010-0064-E. Further analysis on the strength of the 9-degree frame by Airbus Helicopters indicated that compliance times should be modified and the inspection area expanded. Consequently, we propose issuing this AD, which would supersede AD 2013-08-17, and reflect the modified compliance times and inspection areas.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information Under 1 CFR Part 51

Airbus Helicopters has issued an Emergency Alert Service Bulletin (EASB), Revision 2, dated April 7, 2014, containing the following three numbers: No. 05.00.57 for the Model SA-365N and N1, and AS-365N2 and N3 and for military Model AS365F, Fs, Fi, and K helicopters; No. 05.39 for Model SA 366-G1 and military Model SA 366-GA helicopters; and No. 05.00.25 for military Model AS565MA, MB, SA, SB, and UB helicopter.

The EASB specifies checking at regular intervals for a crack in the areas of the inner angles and flanges of the 9-degree frame on the RH and left hand (LH) sides, near the splice. Revision 2 of the EASB modifies the compliance times, adds a compliance time based on take-off/landing cycles, and expands the inspection areas up to the junction with the upper part of the frame. EASA classified this service information as mandatory and issued EASA AD No. 2014-0159 to ensure the continued airworthiness of these helicopters.

This service information is reasonably available because the interested parties have access to it through their normal course of business or by the means identified in the ADDRESSES section.

Proposed AD Requirements

This proposed AD would require inspecting the 9-degree fuselage frame on the RH and LH sides for a crack, using a 10x or higher magnifying glass and a light source, in the areas depicted in specified portions of the EASB applicable to your helicopter. If there is a crack, this proposed AD would require repairing the frame before further flight. For helicopters that have not reached a certain hours time-in-service (TIS) or landing threshold, the inspection would be required within 110 hours TIS after reaching whichever threshold occurs first, and thereafter at intervals not to exceed 110 hours TIS. For helicopters that have reached or exceeded the hours TIS or landing threshold, the inspection would be required within 110 hours TIS since the effective date of the AD and thereafter at intervals not to exceed 110 hours TIS.

Differences Between This Proposed AD and the EASA AD

We would not require contacting the manufacturer for approved repair instructions. We also would not allow flight with a known crack.

Costs of Compliance

We estimate that this proposed AD would affect 40 helicopters of U.S. Registry and that labor costs average $85 a work hour. Based on these estimates, we expect the following costs:

• Inspecting the 9-degree frame would require 3 work-hours per inspection for a cost of $255 per helicopter and $10,200 for the fleet per inspection cycle.

• Repairing the 9-degree frame would require 24 work-hours for a labor cost of $2,040. Parts would cost $3,350 for a total cost of $5,390 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-08-17, Amendment 39-17434 (78 FR 25380, May 1, 2013) and adding the following new AD:

Airbus Helicopters (Previously Eurocopter France): Docket No. FAA-2015-3741; Directorate Identifier 2014-SW-040-AD.

(a) Applicability

This AD applies to Airbus Helicopters Model SA-365N, SA-365-N1, AS-365N2, AS 365 N3, and SA-366G1 helicopters, certificated in any category.

(b) Unsafe Condition

This AD defines the unsafe condition as a crack in the 9-degree frame, which could result in the loss of structural integrity and subsequent loss of control of the helicopter.

(c) Affected ADs

This AD supersedes AD 2013-08-17, Amendment 39-17434 (78 FR 25380, May 1, 2013).

(d) Comments Due Date

We must receive comments by February 19, 2016.

(e) Compliance

You are responsible for performing each action required by this AD within the specified compliance time unless it has already been accomplished prior to that time.

(f) Required Actions

(1) Within 110 hours time-in-service (TIS) after reaching the hours or landings threshold, whichever occurs first, listed in Table 1 to Paragraph (f)(1) of this AD or within 110 hours TIS from the effective date of this AD, whichever occurs later, and thereafter at intervals not to exceed 110 hours TIS, using a 10X or higher magnifying glass and a light, inspect the 9-degree fuselage frame on the right-hand (RH) and left-hand (LH) sides for a crack in the areas depicted in Figures 1 and 2 of Airbus Helicopters Emergency Alert Service Bulletin (EASB) No. AS365 05.00.57, Revision 2, dated April 7, 2014, or EASB No. SA366 05.39, Revision 2, dated April 7, 2014, as applicable to your model helicopter. For purposes of this AD, a landing would be counted anytime the helicopter lifts off into the air and then lands again regardless of the duration of the landing and regardless of whether the engine is shut down.

Table 1 to Paragraph (f)(1)
Helicopter model | Hours TIS | Landings
SA-365N | 11,490 | 22,980
SA-365N1 | 10,490 | 20,980
AS-365N2 | 9,140 | 18,280
AS 365 N3 | 8,740 | 17,480
SA-366G1 | 8,390 | 16,780

(2) If there is a crack, before further flight, repair the frame. Repairing a frame does not constitute terminating actions for the repetitive inspection requirements of this AD.

(g) Alternative Methods of Compliance (AMOCs)

(1) The Manager, Safety Management Group, FAA, may approve AMOCs for this AD. Send your proposal to: Robert Grant, Aviation Safety Engineer, Safety Management Group, FAA, 10101 Hillwood Pkwy., Fort Worth, Texas 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in European Aviation Safety Agency (EASA) AD No. 2014-0159, dated July 7, 2014. You may view the EASA AD on the Internet at http://www.regulations.gov in Docket No. FAA-2015-3741.

(i) Subject

Joint Aircraft Service Component (JASC) Code: 5311, Fuselage Main, Frame.

Issued in Fort Worth, Texas, on December 11, 2015.
Lance T. Gant,
Manager, Rotorcraft Directorate, Aircraft Certification Service.

[FR Doc. 2015-31847 Filed 12-18-15; 8:45 am]

BILLING CODE 4910-13-P